DEPARTMENT OF COMMERCE

National Oceanic and Atmospheric Administration

[I.D. 031903B]

Western Pacific Fishery Management Council; Public Meeting

AGENCY: National Marine Fisheries Service (NMFS), National Oceanic and Atmospheric Administration (NOAA), Commerce.

ACTION: Notice of public meeting.

SUMMARY: The Western Pacific Fishery Management Council (Council) will hold its Coral Reef Ecosystem Plan Team (CREPT), Crustacean Plan Team (CPT) and its Precious Coral Plan Team (PCPT) in Honolulu, HI.

DATES: The meeting of the CREPT will be held on April 16, 2003 through April 17, 2003, from 8:30 a.m. to 5 p.m., each day. The CREPT, CPT and PCPT will hold a joint meeting on April 18, 2003, from 8:30 a.m. to 5 p.m.

ADDRESSES: All meetings will be held at the Western Pacific Fishery Management Council office, 1164 Bishop St., Suite 1400, Honolulu, HI 96813.

FOR FURTHER INFORMATION CONTACT: Kitty M. Simonds, Executive Director; telephone: 808-522-8220.

SUPPLEMENTARY INFORMATION: The CREPT will meet on April 16 and 17, 2003, to discuss the following agenda items:

Wednesday, 16 April 8:30 a.m.

1. Introduction

2. Status of Coral Reef Ecosystem Fishery Management Plan

3. Plan Implementation

4. Development of Annual Reports for Coral Reef Ecosystem Fisheries of the Western Pacific Region

a. Content of Annual Reports

b. Review of Fishery Performance Data

c. Application of MSY Control Rule to the Coral Reef Ecosystem

Thursday, 17 April 8:30 a.m.

5. Inclusion of other coral reef resource information obtained from fishery-dependant and fishery independent sources

a. Assessment of Essential Fish Habitat (EFH) condition

b. Ecosystem-level impacts associated with federally regulated fishing activities

c. Qualitative assessment and ranking of threats to coral reef ecosystems

6. State and territorial management actions

7. Pacific Coral Reef Fisheries Management Workshops

8. Coral Reef Fish Fisheries Stock Assessment Workshop

9. Ecosystem-based Fisheries Management Workshop

10. Other Business

Friday 18 April 8:30 a.m.

The joint CREPT, CPT and PCPT will meet on April 18, 2003 and discuss the following agenda items:

1. Introductions

2. NWHI Sanctuary Designation Process

3. Northwestern Hawaiian Island (NWHI)Science Workshop and Science Symposium

4. 2003 Mariana Archipelago Research Cruise

5. NWHI and Main Hawaiian Island Lobster Research

6. Impacts of invasive soft corals on coral reef ecosystem habitats

7. Other Business

The order in which the agenda items are addressed may change. The Plan Teams will meet as late as necessary to complete scheduled business.

Although non-emergency issues not contained in this agenda may come before the Plan Teams for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 25, 2003.
Theophilus R. Brainerd,
Acting Director, Office of Sustainable Fisheries, National Marine Fisheries Service.

[FR Doc. 03-7649 Filed 3-28-03; 8:45 am]

BILLING CODE 3510-22-S